DEPARTMENT OF HEALTH AND HUMAN SERVICES

Centers for Disease Control and Prevention

[30 Day-11-10GX]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Persistence of Viable Influenza Virus in Aerosols—New—National Institute for Occupational Safety and Health (NIOSH), Centers for Disease Control and Prevention (CDC).

Background and Brief Description

The National Institute for Occupational Safety and Health (NIOSH) is authorized to conduct research to advance the health and safety of workers under Section 20(a) (1) of the 1970 Occupational Safety and Health Act. Influenza continues to be a major public health concern because of the substantial health burden from seasonal influenza and the potential for a severe pandemic. Although influenza is known to be transmitted by infectious secretions, these secretions can be transferred from person to person in many different ways, and the relative importance of the different pathways is not known. The likelihood of the transmission of influenza virus by small infectious airborne particles produced during coughing and breathing is particularly unclear. The question of airborne transmission is especially important in healthcare facilities, where influenza patients tend to congregate during influenza season, because it directly impacts the infection control and personal protective measures that should be taken by healthcare workers. The purpose of this study is to measure the amount of viable influenza virus in airborne particles that are produced by patients when they cough, and the size and quantity of the particles carrying the virus. A better understanding of the amount of potentially infectious material released by patients and the size of the particles carrying the virus will assist in determining the possible role of airborne transmission in the spread of influenza and in devising measures to prevent it.

Volunteer participants will be recruited by a test coordinator using a flyer describing the study. Interested potential participants will be screened using a short health questionnaire to verify that they have influenza-like symptoms and that they do not have any medical conditions that would preclude their participation. Based on a previous study using similar forms, we estimate that the health questionnaire will require about 5 minutes to complete. Qualified participants who agree to participate in the study will be asked to read and sign an informed consent form. Based on the previous study, we estimate that the informed consent form will take about 10 minutes to read and sign. Once the informed consent form is signed, the participant will have their oral temperature measured, two nasopharyngeal swabs will be collected, and the participant will be asked to cough into an aerosol particle collection system. These steps will take about 25 minutes. The airborne particles produced by the participant during coughing will be collected and tested.

There are no costs to the respondents other than their time. The total estimated annual burden hours are 84.

Estimated Annualized Burden Hours
Type of respondent | Form | Number of respondents | Number of responses per respondent | Average burden per response (in hours) | Total burden hours
Initial participants (phase 1) | Health questionnaire | 44 | 1 | 5/60 | 4
Qualified participants (phase 1) | Informed Consent form | 40 | 1 | 10/60 | 7
| No form; Time required for testing. | 40 | 1 | 25/60 | 17
Initial participants (phase 2) | Health questionnaire | 44 | 1 | 5/60 | 4
Qualified participants (phase 2) | Informed Consent form | 40 | 1 | 10/60 | 7
| No form; Time required for testing. | 40 | 1 | 25/60 | 17
Initial participants (phase 3) | Health questionnaire | 44 | 1 | 5/60 | 4
Qualified participants (phase 3) | Informed Consent form | 40 | 1 | 10/60 | 7
| No form; Time required for testing. | 40 | 1 | 25/60 | 17

Dated: December 16, 2010.
Catina Conner,
Acting Reports Clearance Officer, Centers for Disease Control and Prevention.

[FR Doc. 2010-32076 Filed 12-21-10; 8:45 am]

BILLING CODE 4163-18-P